DEPARTMENT OF TRANSPORTATION

Federal Transit Administration

Announcement of Fiscal Year 2019 Grants for Buses and Bus Facilities Program Project Selections

AGENCY: Federal Transit Administration (FTA), DOT.

ACTION: Notice; announcement of project selections. Grants for Buses and Bus Facilities Program.

SUMMARY: The U.S. Department of Transportation's (DOT) Federal Transit Administration (FTA) announces the allocation of $423,329,839 to projects under the Fiscal Year (FY) 2019 Grants for Buses and Bus Facilities Program (Bus Program) and provides administrative guidance on project implementation.

FOR FURTHER INFORMATION CONTACT: Successful applicants should contact the appropriate FTA Regional Office for information regarding applying for the funds or program-specific information. A list of Regional Offices can be found at www.transit.dot.gov/. Unsuccessful applicants may contact Mark G. Bathrick, Office of Program Management at (202) 366-9955, email: Mark.Bathrick@dot.gov, within 30 days of this announcement to arrange a proposal debriefing. A TDD is available at 1-800-877-8339 (TDD/FIRS).

SUPPLEMENTARY INFORMATION: Federal public transportation law (49 U.S.C. 5339(b)) authorizes FTA to make competitive grants for buses and bus facilities. Federal public transportation law (49 U.S.C. 5338) authorized $263,219,530 for competitive allocations in FY 2019. The Consolidated Appropriations Act, 2019 (Pub. L. 116-6) appropriated an additional $160 million for the Bus Program for FY 2019. An additional $130,710 of unawarded FY 2018 funding was also made available. After the statutory set aside for oversight, $423,350,240 was made available for competitive grants under the Bus Program.

On May 15, 2019, FTA published a Notice of Funding Opportunity (NOFO) (84 FR 21899) announcing the availability of $423,350,240 in competitive funding under the Bus Program. These funds will provide financial assistance to states and eligible public agencies to replace, rehabilitate, purchase, or lease buses, vans, and related equipment, and for capital projects to rehabilitate, purchase, construct, or lease bus-related facilities. In response to the NOFO, FTA received 318 eligible project proposals from 43 States and the District of Columbia, totaling approximately $1.89 billion in Federal funds. Project proposals were evaluated based on each applicant's responsiveness to the program evaluation criteria outlined in the NOFO.

Based on the criteria in the NOFO, FTA is funding 94 projects, as shown in Table 1, for a total of $423,329,839. Recipients selected for competitive funding are required to work with their FTA Regional Office to submit a grant application in FTA's Transit Award Management System (TrAMS) for the projects identified in the attached table to quickly obligate funds. Grant applications must only include eligible activities applied for in the original project application. Funds must be used consistent with the competitive proposal and for the eligible capital purposes described in the NOFO.

In cases where the allocation amount is less than the proposer's total requested amount, recipients are required to fund the scalable project option as described in the application. If the award amount does not correspond to the scalable option, the recipient should work with the Regional Office to reduce scope or scale the project such that a complete phase or project is accomplished. Recipients may also provide additional local funds to complete a proposed project. A discretionary project identification number has been assigned to each project for tracking purposes and must be used in the TrAMS application.

Selected projects are eligible to incur costs under pre-award authority no earlier than the date projects were publicly announced, November 25, 2019. Pre-award authority does not guarantee that project expenses incurred prior to the award of a grant will be eligible for reimbursement, as eligibility for reimbursement is contingent upon other requirements, such as planning and environmental requirements, having been met. For more about FTA's policy on pre-award authority, please see the FTA Fiscal Year 2019 Apportionments, Allocations, and Program Information and Interim Guidance (84 FR 31984). Post-award reporting requirements include submission of Federal Financial Reports and Milestone Progress Reports in TrAMS (see FTA.C.5010.1E). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1). Funds allocated in this announcement must be obligated in a grant by September 30, 2023.

Technical Review And Evaluation Summary: The FTA assessed all project proposals that were submitted under the FY 2019 Bus Program competition according to the following evaluation criteria. The specific metrics for each criterion were described in the May 15, 2019, NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

Projects were assigned a final overall rating of Highly Recommended if they were rated Highly Recommended in at least four categories overall, with no Not Recommended ratings. Projects were assigned a final overall rating of Recommended if the projects had three or more Recommended ratings and no Not Recommended ratings. Projects were assigned a rating of Not Recommended if they received a Not Recommended rating in any criteria. A summary of the final overall ratings for all 318 eligible project proposals is shown in the table below.

Overall Project Ratings
[Eligible submissions]
Highly Recommended | 188
Recommended | 96
Not Recommended | 34
Total | 318

As outlined in the NOFO, FTA made the final selections based on the technical ratings as well as geographic diversity, percentage of local cost share, departmental objectives, location in an opportunity zone, and/or receipt of other recent competitive awards.

As further outlined in the NOFO, in some cases, due to funding limitations, proposers that were selected for funding received less than the amount originally requested.

K. Jane Williams,
Acting Administrator.

Table 1—FY 2019 Grants for Buses and Bus Facilities Competition Project Selections
State | Applicant | Project ID | Project description | Funded amount | Overall rating
AK | Chickaloon Native Village | D2020-BUSC-001 | The Chickaloon Native Village will receive funding for a replacement accessible minivan for the Chickaloon Area Transit System (CATS). This project will improve safety, reliability and mobility for tribal residents in Southcentral Alaska | $53,966 | Highly Recommended.
AK | Kenaitze Indian Tribe (IRA) | D2020-BUSC-002 | The Kenaitze Indian Tribe will receive funding to rehabilitate a facility for transit vehicle maintenance needed to extend useful bus life and maintain a state of good repair in this rural, sub-arctic region of Alaska. This project will improve safety, state of good repair and improve service reliability for tribal residents on the Kenai Peninsula in Southcentral Alaska | 1,600,000 | Highly Recommended.
AK | Nulato Village | D2020-BUSC-003 | The Nulato Village will receive funding to purchase a bus to provide tribal residents and members of the public with safe and reliable transit to the Nulato Airport. The project will improve safety and allow residents to stay out of extreme weather while traveling to and from the airport in rural Alaska | 179,885 | Recommended.
AL | Tuscaloosa County Parking and Transit Authority | D2020-BUSC-004 | The Tuscaloosa County Parking and Transit Authority will receive funding to replace buses that are at the end of their useful life. This project will improve safety, support state of good repair, and accommodate ridership | 2,018,750 | Recommended.
AZ | Northern Arizona Intergovernmental Public Transportation Authority | D2020-BUSC-005 | The Northern Arizona Intergovernmental Public Transportation Authority, which operates Mountain Line transit service in Flagstaff, will receive funding for essential projects, including construction of a Downtown Connection Center and the purchase of all-electric buses to replace diesel and hybrid buses that have exceeded their useful life. The projects will improve safety, support state of good repair, and accommodate growing ridership, including students at Northern Arizona University | 17,275,000 | Highly Recommended.
AZ | White Mountain Apache Tribe | D2020-BUSC-006 | The White Mountain Apache Tribe, which operates the Fort Apache Connection transit service on the Fort Apache Indian Reservation in the east central region of Arizona, will receive funding to purchase new vehicles and expand transit service. The project will improve safety and reliability and ensure continued transit service for tribal residents on the Indian Reservation, which includes parts of Navajo, Gila, and Apache counties | 160,000 | Highly Recommended.
CA | California Department of Transportation on behalf of Full Access and Coordinated Transportation, Inc (FACT) | D2020-BUSC-007 | Full Access and Coordinated Transportation, Inc (FACT), which provides specialized transportation services for residents of San Diego County, will receive funding to purchase accessible vehicles that will replace vehicles that have exceeded their useful life. The new vehicles will improve access, mobility and service reliability for people with disabilities, seniors and others who use the service | 466,883 | Highly Recommended.
CA | California Department of Transportation on behalf of Redwood Coast Transit Authority (RCTA) | D2020-BUSC-008 | Redwood Coast Transit Authority (RCTA) will receive funding to purchase new buses that will replace buses that have exceeded their useful life. The new buses will improve safety, reliability and state of good repair for the system, which provides transit service for residents in rural Del Norte County in northern California | 260,000 | Highly Recommended.
CA | California Department of Transportation on behalf of Tehama County Transit Agency Board | D2020-BUSC-009 | Tehama County Transit Agency Board will receive funding to renovate existing buildings at the Tehama Rural Area Express (TRAX) transit facility in Red Bluff, California. The renovations will help improve transit service and reliability for rural residents of Tehama County in northern California | 592,998 | Highly Recommended.
CA | California Department of Transportation on behalf of Yosemite Area Regional Transportation System | D2020-BUSC-010 | Yosemite Area Regional Transportation System (YARTS) will receive funding to purchase battery-electric over-the-road coach buses equipped with ADA lifts and restrooms. The new vehicles will improve access and transit service for residents and visitors to Yosemite National Park and the surrounding communities | 4,335,000 | Highly Recommended.
CA | Fresno Council of Governments (Fresno County Rural Transit Agency) | D2020-BUSC-011 | The Fresno Council of Governments will receive funding for the Fresno County Rural Transit Agency to construct a new state-of-the-art bus maintenance and operations facility. The new facility will improve safety, reliability and state of good repair for the transit system, which provides service to residents throughout the rural areas of Fresno County | 5,145,281 | Highly Recommended.
CA | Kings County Area Public Transit Agency | D2020-BUSC-012 | Kings County Area Public Transit Agency will receive funding to purchase new buses that will replace buses that have exceeded their useful life. The new buses will improve safety, reliability and state of good repair for the system, which provides transit service for residents in the Central San Joaquin Valley | 3,279,570 | Highly Recommended.
CA | Solano County Transit | D2020-BUSC-013 | Solano County Transit will receive funding to plan, construct, and install electrical charging infrastructure to accommodate an all-electric bus fleet that is planned for the future. The project will improve safety and reliability for residents who use the transit service to travel in Solano County, which is part of the San Francisco Bay Area | 1,800,000 | Highly Recommended.
CA | Transit Joint Powers Authority for Merced County (The Bus) | D2020-BUSC-014 | The Transit Joint Powers Authority for Merced County (The Bus) will receive funding to purchase zero-emission electric buses and associated charging equipment to replace the agency's gasoline-fueled buses that have exceeded their useful life. The new buses will improve safety and reliability for residents who use the service to travel in Merced County, which is located in the San Joaquin Valley of California | 2,000,000 | Highly Recommended.
CO | City of Colorado Springs (Mountain Metropolitan Transit) | D2020-BUSC-015 | Mountain Metropolitan Transit in Colorado Springs will receive funding to purchase battery electric buses and charging stations to expand transit service on one of its busiest routes. The buses will allow MMT to accommodate growing ridership and provide a responsive transit service for people accessing jobs, school and community services | 1,621,500 | Highly Recommended.
CO | Colorado Department of Transportation (Breckenridge Free Ride) | D2020-BUSC-016 | The Colorado Department of Transportation will receive funding on behalf of the Town of Breckenridge to replace diesel buses that have exceed their useful life with battery-electric vehicles and charging infrastructure. The fleet helps Breckenridge, home to one of Colorado's largest ski resorts, provide access to jobs, services and tourist sites | 2,015,775 | Highly Recommended.
CO | Colorado Department of Transportation (Laradon Hall Society for Exceptional Children and Adults) | D2020-BUSC-017 | The Colorado Department of Transportation will receive funding on behalf of Laradon Hall Society for Exceptional Children and Adults in Denver to replace transit vans that transport people with disabilities to and from campus. The vehicles will replace vans that have exceeded their useful life, improving safety and reliability | 199,500 | Highly Recommended.
CO | Colorado Department of Transportation (Roaring Fork Transportation Authority) | D2020-BUSC-018 | The Colorado Department of Transportation will receive funding on behalf of the Roaring Fork Transportation Authority to replace buses that have exceeded their useful life. The replacement buses will enhance the rural transit agency's network throughout the Roaring Fork Valley of Central Colorado and help accommodate growing ridership | 1,788,312 | Highly Recommended.
CO | Colorado Department of Transportation (Snowmass Village Shuttle) | D2020-BUSC-019 | The Colorado Department of Transportation will receive funding on behalf of Snowmass Village in rural Pitkin County to replace buses that have exceed their useful life. The replacement vehicles will reduce maintenance costs and improve reliability for the Snowmass Village Shuttle, which provides residents access to jobs and services | 400,000 | Recommended.
CO | Colorado Department of Transportation (Winter Park Lift) | D2020-BUSC-020 | The Colorado Department of Transportation will receive funding on behalf of Winter Park Lift in Colorado's Grand County, to build a maintenance facility for its bus fleet. The infrastructure investment will help the three-year-old transit system house administrative offices and dispatching services, with additional space for future new buses and electric charging facilities | 12,000,000 | Highly Recommended.
DC | Washington Metropolitan Area Transit Authority (WMATA) | D2020-BUSC-021 | The Washington Metropolitan Area Transit Authority (WMATA) will receive funding to upgrade its farebox system on its fleet of buses with modern, supported technologies. This technology upgrade will enhance operational reliability, while enabling WMATA to introduce new buses to their fleet | 11,040,000 | Recommended.
FL | Broward County Transit | D2020-BUSC-022 | Broward County Transit will receive funding to rehabilitate its existing operations and maintenance buildings, construct new administration/operations and training buildings and add infrastructure for electric buses. This project will improve safety and state of good repair for facilities that were originally built in the 1980's | 17,275,000 | Highly Recommended.
FL | Hillsborough Area Regional Transit Authority (HART) | D2020-BUSC-023 | Hillsborough Area Regional Transit Authority (HART) will receive funding to purchase new CNG buses to replace diesel buses that have exceeded their useful life. This project will improve safety, state of good repair and ensure continued transit services for residents of Hillsborough County, Florida | 4,300,000 | Highly Recommended.
GA | University of Georgia | D2020-BUSC-024 | The University of Georgia, which provides transit service to the residents of Athens, Georgia and the University of Georgia campus, will receive funding to purchase new electric buses to replace older buses that have exceeded their useful life. The new vehicles will improve safety, state of good repair and service reliability | 7,462,000 | Highly Recommended.
HI | State of Hawaii Department of Transportation | D2020-BUSC-025 | The State of Hawaii Department of Transportation will receive funding to purchase new accessible vehicles and buses to replace those that have exceeded their useful life for the County of Hawai'i and the County of Kaua'i. The new vehicles will improve safety and reliability for residents who use public transit to commute to work on long commuter routes such as the Hilo-to-South Kohala Resort route (approximately 200 miles round trip) and East Hawaii-to-West Hawaii commuter route (approximately 160 miles round trip) | 6,586,650 | Recommended.
IA | Des Moines Area Regional Transit Authority (DART) | D2020-BUSC-026 | The Des Moines Area Regional Transit Authority (DART) will receive funding to construct a new operations and maintenance facility to replace an outdated and undersized facility. The new building will be located in downtown Des Moines, away from the current facility's flood-prone area | 17,275,000 | Highly Recommended.
IA | Iowa Department of Transportation | D2020-BUSC-027 | The Iowa Department of Transportation will receive funding to replace rural buses throughout the state that have exceeded their useful life Iowa. DOT estimates that more than half of its statewide transit bus fleet is in need of replacement | 9,414,785 | Highly Recommended.
ID | City of Lewiston | D2020-BUSC-028 | The City of Lewiston in northern Idaho will receive funding to construct a transit center at the Lewiston Community Center, which currently does not have any infrastructure designed specifically for transit needs. The project will repurpose the west side of the parking lot to construct a small transit center where passengers have access to amenities and where transit activities can take place more safely and reliably | 64,000 | Recommended.
IL | Bloomington-Normal Public Transit System (DBA Connect Transit) | D2020-BUSC-029 | Connect Transit will receive funding to improve bus stops by adding shelters and benches as well as infrastructure that complies with the Americans with Disabilities Act. The upgrades will enhance safety for riders, better accommodate passenger transfers between buses, and attract new customers | 500,000 | Highly Recommended.
IL | Champaign-Urbana Mass Transit District | D2020-BUSC-030 | The Champaign-Urbana Mass Transit District will receive funding to renovate and expand the Illinois Terminal, a transportation hub with local and intercity buses and passenger rail. The project will improve safety and accommodate rising demand at the terminal, which is part of a joint development project that includes plans for a hotel and conference center as well as residential and commercial development | 17,275,000 | Highly Recommended.
IL | Illinois Department of Transportation | D2020-BUSC-031 | The Illinois Department of Transportation (IDOT) will receive funding to replace buses, improve maintenance facilities and purchase bus equipment in the downstate region. The funding will allow transit providers in rural areas and small cities to accommodate growing ridership, improve safety and reliability, address state of good repair needs and reduce maintenance costs | 8,046,999 | Highly Recommended.
IN | Bloomington Public Transportation Corporation (Bloomington Transit) | D2020-BUSC-032 | Bloomington Transit will receive funding to replace and upgrade the fare collection system on its fixed-route service buses. The new fare collection system will allow Bloomington Transit to expand fare payment options for riders, reduce farebox maintenance costs and obtain more accurate fare counts | 1,125,000 | Highly Recommended.
KS | City of Wichita | D2020-BUSC-033 | Wichita Transit will receive funding to build a replacement transit center to meet current and future regional transportation needs. The building will connect 17 bus routes, four circulator trolleys and commuter transit and boost economic development in the West Bank area of the Arkansas River | 14,232,816 | Recommended.
KY | Transit Authority of River City (TARC) | D2020-BUSC-034 | The Transit Authority of River City (TARC) will receive funding to purchase new buses to replace older buses that have exceeded their useful life. This project will improve safety, state of good repair and improve service reliability for residents who rely on bus service in the Greater Louisville area | 17,275,000 | Highly Recommended.
LA | Jefferson Parish, Inc (Jefferson Transit) | D2020-BUSC-035 | Jefferson Transit will receive funding to build a new operations center to replace an aging, makeshift operations facility. The new center will be double the size of the current facility in order to accommodate critical safety, dispatch and training functions while providing passengers seeking to purchase passes and fare cards with a modern facility that complies with the Americans with Disabilities Act | 4,300,000 | Highly Recommended.
LA | New Orleans Regional Transit Authority (RTA) | D2020-BUSC-036 | The New Orleans Regional Transit Authority (RTA) will receive funding to purchase biodiesel buses to replace buses that RTA purchased after Hurricane Katrina destroyed the authority's bus fleet in 2005. Those buses have reached the end of their useful life, and new buses will allow RTA to enhance safety, improve service and reduce vehicle breakdowns | 7,246,315 | Highly Recommended.
MA | Montachusett Regional Transit Authority | D2020-BUSC-037 | The Montachusett Regional Transit Authority in north central Massachusetts will receive funding to replace buses that have exceeded their useful life. The new buses will improve safety through the installation of security cameras, boost reliability and lower maintenance costs | 4,500,000 | Highly Recommended.
MD | Baltimore County, Maryland | D2020-BUSC-038 | Baltimore County, Maryland, will receive funding to purchase new buses and new infrastructure for the proposed Towson Circulator project. This project will improve access and mobility for the transit riding public through the creation of a new transit service | 1,651,720 | Highly Recommended.
MD | Maryland Transit Administration (MTA) on behalf of Delmarva Community Services | D2020-BUSC-039 | Delmarva Community Services will receive funding to purchase new vehicles and support infrastructure. This project will improve safety, state of good repair and enhance mobility for riders in Kent, Caroline, Talbot and Dorchester Counties | 248,000 | Recommended.
MD | Maryland Transit Administration (MTA) on behalf of St. Mary's Transit System | D2020-BUSC-040 | The St. Mary's Transit System, which provides service in St. Mary's County, Maryland, will receive funding to expand its vehicle maintenance facility for its bus fleet | 76,500 | Recommended.
MD | Maryland Transit Administration (MTA) on behalf of Tri-County Council for the Lower Eastern Shore of Maryland (Shore Transit) | D2020-BUSC-041 | The Tri-County Council for the Lower Eastern Shore of Maryland (Shore Transit) will receive funding to purchase new vehicles to replace older vehicles that have exceeded their useful life. This project will improve safety, state of good repair and service reliability for riders in Maryland's lower eastern shore counties of Somerset, Wicomico, and Worcester | 850,000 | Highly Recommended.
ME | Biddeford-Saco-Old Orchard Beach Transit Committee | D2020-BUSC-042 | The Biddeford-Saco-Old Orchard Beach Transit Committee, operating four bus routes and six seasonal trolley routes near Portland, Maine, will receive funding to replace buses that have exceeded their useful life. The replacement vehicles will improve safety, reduce maintenance costs and improve reliability | 880,000 | Highly Recommended.
ME | City of Bangor | D2020-BUSC-043 | The City of Bangor will receive funding for construction of a new Bangor Transportation Center to replace an aging bus depot that has exceeded its useful life. The new transportation center will boost ridership and serve as a multi-modal facility for the City's Community Connector fixed route, shared ride services, intercity buses and other active transit | 1,286,000 | Highly Recommended.
ME | Maine Department of Transportation | D2020-BUSC-044 | The Maine Department of Transportation will receive funding to replace buses for three regional transit providers spanning eight Maine counties. The new buses will improve the fleets' state of good repair, reduce maintenance costs and improve the passenger experience | 1,057,567 | Highly Recommended.
MI | City of Detroit Department of Transportation (DDOT) | D2020-BUSC-045 | The City of Detroit Department of Transportation (DDOT) will receive funding to purchase new fareboxes to modernize its fare collection system. The new fareboxes will reduce the frequency and cost of repairs, improve boarding times and schedule adherence, and expand fare payment options for passengers | 8,494,812 | Highly Recommended.
MI | Flint Mass Transportation Authority (MTA) | D2020-BUSC-046 | The Flint Mass Transportation Authority (MTA) will receive funding to purchase propane transit buses and CNG commuter buses to replace diesel buses that have exceeded their useful life. The new buses will allow MTA to improve safety, efficiency and service reliability, especially on MTA's peak hour and regional routes that transport passengers to work and school | 4,300,000 | Highly Recommended.
MN | Red Lake Band of Chippewa Indians | D2020-BUSC-047 | The Red Lake Band of Chippewa Indians will receive funding so that Red Lake Public Transit can purchase new buses and equipment, allowing it to expand its bus fleet to accommodate growing ridership. Red Lake Public Transit provides on-demand bus service on the Red Lake Indian Reservation, which is located in a rural area of northwest Minnesota | 211,944 | Recommended.
MO | Bi-State Development Agency | D2020-BUSC-048 | The Bi-State Development Agency of St. Louis will receive funding to transform bus stops into mobility hubs to improve safety and create a more welcoming experience for riders. The hubs will improve accessibility and include amenities such as benches, lighting and community information, at key transit transfer points | 350,000 | Highly Recommended.
MO | Missouri Department of Transportation | D2020-BUSC-049 | The Missouri Department of Transportation will receive funding to construct two storage and maintenance facilities for rural transit providers. The facilities will save operational costs compared to using contract services, add efficiencies and help keep transit buses in a state of good repair | 5,120,000 | Highly Recommended.
MS | Coast Transit Authority | D2020-BUSC-050 | Coast Transit Authority will receive funding to construct a bridge structure between the Gulfport Transit Center and the Jones Park Bus Station in Gulfport, MS. This project will provide pedestrian safety and improved mobility between these two locations | 5,351,155 | Highly Recommended.
MS | Mississippi Department of Transportation | D2020-BUSC-051 | The Mississippi Department of Transportation will receive funding to purchase new buses. This project will support service expansion throughout the state and help meet the needs of Mississippi residents who rely on transportation services to get to employment opportunities and an increasing demand for health care destinations | 5,680,000 | Highly Recommended.
MT | City of Billings Metropolitan Transit System | D2020-BUSC-052 | The City of Billings Metropolitan Transit System will receive funding to replace buses that have exceeded their useful life. The buses will help the agency increase safety, maintain its bus fleet in a state of good repair and ensure safe and reliable service to the residents of Billings, Montana's largest city | 840,000 | Highly Recommended.
MT | Montana Department of Transportation (North Central Montana Transit) | D2020-BUSC-053 | The Montana Department of Transportation will receive funding on behalf of North Central Montana Transit to replace buses that have exceeded their useful life and purchase the bus maintenance facility it has been renting. The agency, which provides service to two tribal governments—Chippewa Cree Tribe of the Rocky Boy's Reservation and the Fort Belknap Indian Community Council—in north central Montana, provides trips to healthcare, grocery stores and tribal colleges | 510,088 | Highly Recommended.
NC | City of Salisbury | D2020-BUSC-054 | The City of Salisbury, on behalf of the Salisbury Transit System, will receive funding to purchase new vehicles to replace older vehicles that have exceeded their useful life, and purchase bus equipment. This project will improve safety and state of good repair with new buses that will be more reliable and reduce maintenance costs | 480,000 | Highly Recommended.
NC | North Carolina Department of Transportation | D2020-BUSC-055 | The North Carolina Department of Transportation, on behalf of several rural transit systems, will receive funding to replace vehicles, as well as construct and renovate public transportation facilities throughout the state. These projects will address safety, state of good repair and critical transit needs throughout the state | 17,275,000 | Highly Recommended.
NC | Piedmont Authority for Regional Transportation | D2020-BUSC-056 | The Piedmont Authority for Regional Transportation will receive funding to purchase new vehicles to replace older vehicles that have exceeded their useful life. The new vehicles will increase reliability and safety for passengers in Burlington, Greensboro, High Point and Winston-Salem, NC | 6,768,000 | Highly Recommended.
NE | Transit Authority of the City of Omaha | D2020-BUSC-057 | The Transit Authority of the City of Omaha will receive funding to replace buses that have exceeded their useful life. The buses will help improve reliability and help maintain the 98-vehicle fleet in a state of good repair | 4,709,375 | Highly Recommended.
NJ | New Jersey Transit | D2020-BUSC-058 | New Jersey Transit (NJT) will receive funding to purchase new 60-foot buses to help expand capacity in Northern New Jersey. The project will allow NJT to meet growing demand for its services | 17,275,000 | Highly Recommended.
NM | New Mexico Department of Transportation | D2020-BUSC-059 | The New Mexico Department of Transportation (NMDOT) will receive funding to enable the North Central Regional Transit District (NCRTD) to design and construct a new operations and maintenance facility in Taos. The new facility will feature more space and house more functions than the current facility, allowing NCRTD to more efficiently maintain its buses and improve service reliability | 5,251,090 | Highly Recommended.
NM | Rio Metro Regional Transit District (RMRTD) | D2020-BUSC-060 | The Rio Metro Regional Transit District (RMRTD), which provides bus service in central New Mexico, will receive funding to construct a new bus administration and operations facility in Los Lunas, New Mexico. The new facility will enable RMRTD to consolidate its administrative and operations functions, increasing safety and security for staff and improving operational efficiency | 5,984,955 | Highly Recommended.
NV | Carson Area Metropolitan Planning Organization (CAMPO) | D2020-BUSC-061 | Carson Area Metropolitan Planning Organization (CAMPO) will receive funding to purchase new buses and replace aging vehicles that have exceeded their useful life. The new buses will improve transit service and reliability for the Jump Around Carson (JAC) transit system, the largest transit provider in Carson City, Nevada | 455,000 | Highly Recommended.
NV | Fallon Paiute-Shoshone Tribe of the Fallon Reservation and Indian Colony | D2020-BUSC-062 | The Fallon Paiute-Shoshone Tribe of the Fallon Reservation and Indian Colony will receive funding to purchase a new passenger bus equipped with a camera and fare box. It will also purchase a camera and fare box for their current transit bus. The project will improve transit service for people living within the boundaries of the reservation and Indian colony, located in rural Churchill County, Nevada | 59,525 | Highly Recommended.
NV | Regional Transportation Commission of Southern Nevada (RTC) | D2020-BUSC-063 | The Regional Transportation Commission of Southern Nevada (RTC), which provides transit service in Las Vegas and southern Nevada, will receive funding to replace camera systems on fixed route, paratransit and alternative transportation vehicles to improve safety and operating efficiencies. RTC also will receive funding to install a new paratransit bus wash and upgrade the existing fixed route bus wash system at its Sunset Maintenance Facility, which will also improve maintenance and operations | 7,475,000 | Highly Recommended.
NY | Nassau County (Nassau Inter-County Express) | D2020-BUSC-064 | The Nassau Inter-County Express (NICE) will receive funding to provide safety, infrastructure and passenger upgrades to its intermodal transit facility in Hempstead, New York. This project will improve safety and state of good repair for transit riders utilizing the intermodal facility | 2,000,000 | Highly Recommended.
NY | New York City Department of Transportation | D2020-BUSC-065 | The New York City Department of Transportation will receive funding for the Safe Routes to Transit project to make infrastructure, pedestrian safety and accessibility improvements for transit riders along 86th Street in Brooklyn. This project will improve safety and state of good repair for the transit public utilizing bus service in this section of Brooklyn, NY | 9,000,000 | Highly Recommended.
OH | Greater Dayton Regional Transit Authority | D2020-BUSC-066 | The Greater Dayton Regional Transit Authority (RTA) will receive funding to purchase new buses to replace buses that have exceeded their useful life. The new buses will be more reliable than the current buses, allowing the transit authority to reduce maintenance costs, and improve service reliability and on-time performance | 2,971,592 | Highly Recommended.
OH | Laketran | D2020-BUSC-067 | Laketran in Northeast Ohio will receive funding to purchase battery electric buses and equipment as well as to reconstruct a park and ride facility. The funding will allow Laketran to replace diesel buses that have exceeded their useful life and rehabilitate the park and ride facility to accommodate electric buses and improve access and facilities for passengers | 4,300,000 | Highly Recommended.
OH | Western Reserve Transit Authority | D2020-BUSC-068 | Western Reserve Transit Authority will receive funding to upgrade its maintenance bays for repairing vehicles and updating the parts storage room. The upgrades will help improve safety and transit service for residents in the City of Youngstown and Mahoning County | 600,104 | Highly Recommended.
OK | Choctaw Nation of Oklahoma | D2020-BUSC-069 | The Choctaw Nation of Oklahoma will receive funding to purchase vans to replace vehicles that have exceeded their useful life and expand the free transit service it provides to elderly, disabled and low income residents of rural southeastern Oklahoma. The new vehicles will improve mobility and access to healthcare for riders who need transportation to non-emergency medical treatment such as chemotherapy and dialysis | 1,378,403 | Highly Recommended.
OK | Oklahoma Department of Transportation (ODOT) | D2020-BUSC-070 | The Oklahoma Department of Transportation will receive funding to purchase new buses and vans to expand rural service and replace vehicles that have exceeded their useful life. The new vehicles will allow rural transit providers in the state to reduce maintenance costs, improve safety and meet rising demand for transit service | 4,020,576 | Highly Recommended.
OK | Oklahoma Department of Transportation (ODOT) | D2020-BUSC-071 | The Oklahoma Department of Transportation will receive funding on behalf of rural transit providers in the state to rehabilitate and expand operations and maintenance facilities. The improved facilities will allow the transit providers to enhance safety, maintain vehicles in a state of good repair and improve service for riders | 129,240 | Recommended.
OR | Oregon Department of Transportation (City of Woodburn) | D2020-BUSC-072 | The Oregon Department of Transportation (ODOT) will receive funding on behalf of the City of Woodburn to replace the oldest bus in the city's fleet with a new heavy-duty transit bus, significantly reducing transit repair and maintenance costs. The new bus will improve access, mobility and transit service for riders who use the service in Woodburn | 300,000 | Recommended.
OR | Oregon Department of Transportation (Mid-Columbia Economic Development District) | D2020-BUSC-073 | The Oregon Department of Transportation (ODOT) will receive funding on behalf of the Mid-Columbia Economic Development District to replace LINK buses that have exceeded their useful life. The new LINK buses will improve access, mobility and transit service for riders who use the service in Wasco County | 150,126 | Recommended.
OR | Oregon Department of Transportation (Yamhill County Transit) | D2020-BUSC-074 | The Oregon Department of Transportation (ODOT) will receive funding on behalf of Yamhill County Transit to replace several buses that have exceeded their useful life. The new buses will improve access, mobility and transit service for riders who use the service in northern Oregon | 999,968 | Highly Recommended.
OR | Oregon Department of Transportation | D2020-BUSC-075 | The Oregon Department of Transportation (ODOT) will receive funding to purchase a new bus for a new rural public transportation bus route between the communities of Eugene and Florence, Oregon. The route will link the valley with the coast and provide a needed public transportation option between these two communities that are 60 miles apart | 110,500 | Recommended.
OR | Salem Area Mass Transit District | D2020-BUSC-076 | Salem Area Mass Transit District, which operates “Cherriots” transit service in Salem, Keizer, and the mid-Willamette Valley, will receive funding to implement Intelligent Transportation System (ITS) improvements including Transit Signal Priority technology and Real Time Passenger Information systems. In partnership with the City of Salem and the Oregon Department of Transportation, the agency will equip intersections and transit buses with GPS receivers to prioritize traffic signals to optimize efficient transit routes in congested corridors. The project will also deploy a Real Time Passenger Information system to improve transit system efficiency and the customer experience | 1,054,240 | Highly Recommended.
PA | Erie Metropolitan Transit Authority | D2020-BUSC-077 | The Erie Metropolitan Transit Authority will receive funding to replace diesel buses with compressed natural gas (CNG) buses in the City and County of Erie, Pennsylvania. The new buses will help the agency replace aging buses that have exceeded their useful life | 2,031,580 | Highly Recommended.
PA | Southeastern Pennsylvania Transportation Authority (SEPTA) | D2020-BUSC-078 | The Southeastern Pennsylvania Transportation Authority (SEPTA) will receive funding to construct new bus stations to extend its Roosevelt Boulevard Direct Bus Service from Frankford Transportation Center to Wissahickon Transportation Center. This project will improve safety and state of good repair with new infrastructure and passenger amenities | 2,000,000 | Highly Recommended.
RI | Rhode Island Public Transit Authority | D2020-BUSC-079 | The Rhode Island Public Transit Authority (RIPTA) will receive funding to construct two mobility hubs with improved rider amenities at the University of Rhode Island and the Community College of Rhode Island to improve service and access to major destinations. The hubs will feature up to eight bus bays, interior waiting space and fare machines | 8,040,000 | Highly Recommended.
SC | Berkeley-Charleston-Dorchester Council of Governments | D2020-BUSC-080 | The Berkeley-Charleston-Dorchester Council of Governments will receive funding on behalf of the Charleston Area Regional Transportation Authority (CARTA) to replace older diesel buses with new, all-electric vehicles and associated support infrastructure. This project will support CARTA's state of good repair needs, while reducing the agency's operating costs | 8,321,700 | Highly Recommended.
SC | Greenville Transit Authority (Greenlink) | D2020-BUSC-081 | The Greenville Transit Authority (Greenlink) will receive funding to purchase new buses to help expand service. The new buses will improve transit service for residents of the Greenville and Mauldin/Simpsonville areas in South Carolina | 2,040,000 | Highly Recommended.
SD | SD Department Of Transportation | D2020-BUSC-082 | The South Dakota Department of Transportation on behalf of Community Transit will receive funding to create a call and dispatch center that centralizes the communications activities of five transit agencies under one umbrella in Watertown. The remodeled facility and enhanced technology will increase communication, safety and reliability for Community Transit and partner agencies in eastern South Dakota | 68,402 | Recommended.
TN | Tennessee Department of Transportation, Division of Multimodal Transportation Resources | D2020-BUSC-083 | The Tennessee DOT Division of Multimodal Transportation Resources will receive funding on behalf of rural and urban transit agencies to purchase new vehicles and specialized vehicles to replace older vehicles that have exceeded their useful life. This will ensure vehicles are available for accessible transportation services throughout the state | 16,228,197 | Recommended.
TX | Corpus Christi Regional Transportation Authority | D2020-BUSC-084 | The Corpus Christi Regional Transportation Authority (CCRTA) will receive funding to rehabilitate and build bus transfer stations and reconstruct a bus maintenance facility parking lot. The projects will allow the transportation authority to improve safety for passengers and employees, comply with Americans with Disabilities Act requirements and meet the transit needs of a growing population | 7,231,023 | Highly Recommended.
TX | Texas Department of Transportation | D2020-BUSC-085 | The Texas Department of Transportation (TxDOT) will receive funding on behalf of rural transit providers throughout the state to replace transit vehicles that have exceeded their useful life. The grants also will fund new and rehabilitated maintenance and other facilities, allowing the rural transit providers to improve safety and efficiency and meet growing demand for service | 13,815,200 | Highly Recommended.
UT | Utah Department of Transportation (Park City Transit) | D2020-BUSC-086 | The Utah Department of Transportation will receive funding on behalf of Park City Transit to upgrade bus communications technology. The software and hardware upgrades will replace outdated systems, including on-board driver communications, dispatch, scheduling, data storage, reporting and web servers that provide real-time bus location information | 400,000 | Highly Recommended.
UT | Utah Transit Authority (UTA) | D2020-BUSC-087 | The Utah Transit Authority (UTA) will receive funding to improve more than 100 bus stops that serve riders in Salt Lake City and seven surrounding counties. The enhanced bus stops will be compliant with the Americans with Disabilities Act, improve safety and provide amenities such as shelters, benches, lighting and bike racks to improve the rider experience | 3,220,250 | Highly Recommended.
WA | City of Longview | D2020-BUSC-088 | The City of Longview will receive funding to purchase new low-floor biodiesel buses to replace older buses that have exceeded their useful life. The new buses will be operated by RiverCities Transit and will improve access, mobility and transit service for residents of Kelso and Longview | 1,560,000 | Highly Recommended.
WA | Intercity Transit | D2020-BUSC-089 | Intercity Transit, which serves Washington State's capital city, Olympia, and neighboring cities will receive funding to complete a bus yard expansion and install its own propane fueling station to support increased transit service. This project is the last element of Intercity Transit's Pattison Street maintenance facility upgrade, a complete overhaul of a well-used facility and restoring it to fully serviceable conditions to support the next generation of transit services for the Thurston region | 4,956,000 | Highly Recommended.
WA | Washington State Department of Transportation | D2020-BUSC-090 | Washington State Department of Transportation (WSDOT) will receive funding for replacement and expansion vehicles and equipment for four transit agencies providing rural service in Clallam, Grant, Island and Kittitas counties. The new vehicles will improve safety, access and mobility for transit riders in rural Washington | 3,932,622 | Highly Recommended.
WI | City of Janesville, WI | D2020-BUSC-091 | The City of Janesville will receive funding to purchase new low floor, accessible transit buses to replace aging buses that have exceeded their useful life. The new clean diesel buses will improve transit service and reliability for those who travel by transit throughout the city | 800,000 | Highly Recommended.
WI | City of Madison | D2020-BUSC-092 | The City of Madison will receive funding to purchase several local buildings to use for bus storage and maintenance. The project will relieve crowding at the city's current storage and maintenance facility, allow for future fleet and service expansions and enable the city to meet growing demand for transit | 7,000,000 | Highly Recommended.
WI | Wisconsin Department of Transportation | D2020-BUSC-093 | The Wisconsin Department of Transportation (WisDOT) will receive funding to replace transit vehicles that have exceeded their useful life. The new vehicles will allow rural transit providers in the state to improve the state of good repair of their fleets, reduce operating and maintenance expenses, enhance safety and increase service reliability | 838,400 | Highly Recommended.
WV | Eastern Panhandle Transit Authority (EPTA) | D2020-BUSC-094/D2020-BUSC-095 | The Eastern Panhandle Transit Authority (EPTA) will receive funding to design and construct a new maintenance facility that will replace an older facility. The new facility will help improve transit service throughout Berkeley and Jefferson Counties | 6,080,000 | Highly Recommended.
Total |  |  |  | 423,329,839 |

[FR Doc 2020-04168 Filed 2-28-20; 8:45 am]

BILLING CODE P